ENVIRONMENTAL PROTECTION AGENCY

[EPA-HQ-OAR-2003-0162; FRL-9943-22-OEI]

Information Collection Request Submitted to OMB for Review and Approval; Comment Request; Regional Haze Regulations (Renewal)

AGENCY: Environmental Protection Agency (EPA).

ACTION: Notice.

SUMMARY: The Environmental Protection Agency has submitted an information collection request (ICR), “Regional Haze Regulations (Renewal)” (EPA ICR No. 1813.09, OMB Control No. 2060-0421) to the Office of Management and Budget (OMB) for review and approval in accordance with the Paperwork Reduction Act (44 U.S.C. 3501 et seq.). This is a proposed extension of the ICR, which is currently approved through March 31, 2016. Public comments were previously requested via the Federal Register (80 FR 58473) on September 29, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 29, 2016.

ADDRESSES: Submit your comments, referencing Docket ID Number EPA-HQ-OAR-2003-0162, to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Chris Werner, Air Quality Policy Division, Office of Air Quality Planning and Standards, C539-04, Environmental Protection Agency, Research Triangle Park, NC 27711; telephone number: (919) 541-5133; fax number: (919) 541-5315; email address: werner.christopher@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This ICR is for activities related to the implementation of the EPA's regional haze rule, for the time period between March 31, 2016, and March 31, 2019, and renews the previous ICR. The regional haze rule codified at 40 CFR parts 308 and 309, as authorized by sections 169A and 169B of the Clean Air Act, requires states to develop implementation plans to protect visibility in 156 federally-protected Class I areas. Tribes may choose to develop implementation plans. For this time period, states will primarily be developing and submitting periodic comprehensive implementation plan revisions (or initial implementation plans) and progress reports to comply with the regulations.

Form Numbers: None.

Respondents/affected entities: Entities potentially affected by this action are state, local and tribal air quality agencies, regional planning organizations and facilities potentially regulated under the regional haze rule.

Respondent's obligation to respond: Mandatory [see 40 CFR 51.308(b), (f) and (g) and 40 CFR 51.309(d)(10)].

Estimated number of respondents: 52 (total); 52 state agencies.

Frequency of response: Approximately every 5 years.

Total estimated burden: 10,307 hours (per year). Burden is defined at 5 CFR 1320.03(b).

Total estimated cost: $510,489 (per year). There are no annualized capital or operation and maintenance costs.

Changes in the Estimates: There is an increase of 4,259 hours in the total estimated respondent burden compared with the ICR currently approved by OMB. This increase is due to this ICR renewal period covering different task elements than the previous renewal (EPA ICR No. 1813.08). These differences reflect the requirements of the current regional haze rule with respect to the scheduled events and activities in the implementation process. The last collection request anticipated the program consisting mainly of submission of 5-year progress reports. The change in burden reflects changes in labor rates and changes in the activities conducted due to the normal progression of the program, especially the fact that states will be working on and submitting periodic comprehensive State Implementation Plan (SIP) revisions (or initial SIPs).

Courtney Kerwin,
Acting Director, Collection Strategies Division.

[FR Doc. 2016-07087 Filed 3-29-16; 8:45 am]

BILLING CODE 6560-50-P